DEPARTMENT OF AGRICULTURE

Farm Service Agency

Information Collection: Farm Loan Programs Account Servicing Policies

AGENCY: Farm Service Agency, USDA.

ACTION: Notice and request for comments.

SUMMARY: In accordance with the Paperwork Reduction Act of 1995, the Farm Service Agency is seeking comments from all interested individuals and organizations on the extension of an approved information collection associated with Farm Loan Programs Account Servicing Policies.

DATES: Comments on this notice must be received on or before June 4, 2007 to be assured consideration.

ADDRESSES: The comments should be addressed to James D. Rowe, Direct Loan Servicing Branch Chief, USDA, FSA, Farm Loan Programs, Loan Servicing Division, 1400 Independence Avenue, SW., STOP 0523, Washington, DC 20250-0523. The comments also may be submitted to by e-mail to james.rowe@wdc.usda.gov. The comments should be also sent to the Desk Officer for Agriculture, Office of Information and Regulatory Affairs, Office of Management and Budget, Washington, DC 20503.

FOR FURTHER INFORMATION CONTACT: James D. Rowe, USDA, Farm Service Agency, Loan Servicing and Property Management Division, (202) 720-6834 and james.rowe@wdc.usda.gov. Comments should include the OMB control number and the title of the information collection.

SUPPLEMENTARY INFORMATION: Title: (7 CFR 1951-S) Farm Loan Programs Account Servicing Policies.

OMB Control Number: 0560-0161.

Expiration Date: September 30, 2007.

Type of Request: Extension of a Currently Approved Information Collection.

Abstract: The Farm Loan Programs (FLP) provides supervised credit in the form of loans to family farmers and ranchers to purchase land and finance agricultural production. The regulations covering this information collection request describe the policies and procedures the agency will use to service most delinquent FLP loans. Servicing of accounts is administered in accordance with Sections 331D and 353 of the Consolidated Farm and Rural Development Act (CONACT) (7 U.S.C. 1981d and 2001). The FSA is using the collected information to service the borrower's loan account. Failure to collect the information would result in borrowers not being provided with available servicing options and could result in liquidation.

Estimate of Annual Burden: Public reporting burden for this collection of information is estimated to average .53 hours per response.

Respondents: Individuals or households, businesses or other for profit and farms.

Estimated Number of Respondents: 26,904.

Estimated Number of Responses per Respondent: 1.0

Estimated Total Annual Burden on Respondents: 14,312 hours.

Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed in Washington, DC on March 28, 2007.
Teresa C. Lasseter,
Administrator, Farm Service Agency.

[FR Doc. E7-6137 Filed 4-2-07; 8:45 am]

BILLING CODE 3410-05-P